DEPARTMENT OF ENERGY

Federal Energy Regulatory Commission

[Docket Nos. RP00-397-003 and RP01-33-005]

Questar Pipeline Company; Notice of Compliance Filing

May 23, 2002.

Take notice that on May 15, 2002, Questar Pipeline Company (Questar) tendered for filing as part of its FERC Gas Tariff, the following tariff sheets with an effective date of December 1, 2002:

First Revised Volume No. 1

Third Revised Sheet No. 41

Fourth Revised Sheet No. 42

Seventh Revised Sheet No. 43 and 44

Eighth Revised Sheet No. 45

Tenth Revised Sheet No. 46

Seventh Revised Sheet No. 56

Eighth Revised Sheet No. 71

Fourth Revised Sheet No. 71A

Seventh Revised Sheet No. 73

Fifth Revised Sheet No. 73A

First Revised Sheet No. 99I

Second Revised Sheet No. 99J

Original Sheet No. 99K

Original Sheet No. 99L

Questar states that it is also submitted the following pro forma tariff sheets to Pro Forma First Revised Volume No. 1 that it will later file for a December 1, 2003, effective date:

Pro Forma Tariff Sheets

Fourth Revised Sheet No. 41

Ninth Revised Sheet No. 45

Eleventh Revised Sheet No. 46

Ninth Revised Sheet No. 71

Fifth Revised Sheet No. 71A

Third Revised Sheet No. 75D

Third Revised Sheet No. 99J

Questar states that the filing is being made in compliance with the Commission's February 14, 2002 Order, (the February 14th order) proposed tariff sheets to listed below, to be effective December 1, 2002.

In the Commission's February 14th order, the Commission approved, in part, Questar's pro forma tariff sheets and directed Questar to make revisions to its pro forma tariff sheets as discussed in the order and file actual tariff sheets within 30 days of the date of issuance of the February 14th order. On March 4, 2002, Questar requested an extension of time until May 15, 2002, to file certain revised tariff sheets relating to the segmentation portion of the February 14th order. The Commission granted the Extension of Time by notice issued March 7, 2002. On March 18, 2002, Questar submitted its compliance filing addressing all but the segmentation requirements of the February 14th order. With this filing Questar is proposing to implement a two-phase approach to segmentation to comply with the Commission's directives in the February 14th order.

Questar states that a copy of this filing has been served upon its customers, the Public Service Commission of Utah and the Public Service Commission of Wyoming.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13500 Filed 5-29-02; 8:45 am]

BILLING CODE 6717-01-P